DEPARTMENT OF THE INTERIOR

Bureau of Land Management

[UTU 08463, UTU 53990, UTU 010096, UTU 42889]

Public Land Order No. 7395; Revocation of Public Land Order Nos. 494, 565, 983, and 1011, Utah; Correction

AGENCY: Bureau of Land Management, Interior.

ACTION: Correction.

SUMMARY: This action corrects an error in the land description published as FR Doc. 99-16616 in the Federal Register, 64 FR 35179, June 30, 1999, for a Department of Energy withdrawal revocation.

On page 35179, column 2, line 33 from the bottom, which reads “T. 36 S., R. 10 E., “ is hereby corrected to read “T. 36 S., R. 19 E.”

Dated: March 17, 2008.
Jeff Rawson,
Acting State Director.

[FR Doc. E8-6289 Filed 3-26-08; 8:45 am]

BILLING CODE 4310-DQ-P